DEPARTMENT OF HOMELAND SECURITY

Office of the Secretary

6 CFR Chs. I and II

[DHS Docket No. OGC-RP-04-001]

Unified Agenda of Federal Regulatory and Deregulatory Actions

AGENCY: Office of the Secretary, DHS.

ACTION: Semiannual regulatory agenda.

SUMMARY: This regulatory agenda is a semiannual summary of all current and projected rulemakings, existing regulations, and completed actions of the Department of Homeland Security (DHS) and its components. This agenda provides the public with information about DHS' regulatory activity. DHS expects that this information will enable the public to be more aware of, and effectively participate in, the Department's regulatory activity. DHS invites the public to submit comments on any aspect of this agenda.

FOR FURTHER INFORMATION CONTACT:

General

Please direct general comments and inquiries on the agenda to the Regulatory Affairs Law Division, Office of the General Counsel, U.S. Department of Homeland Security, 245 Murray Lane, Mail Stop 0485, Washington, DC 20528-0485.

Specific

Please direct specific comments and inquiries on individual regulatory actions identified in this agenda to the individual listed in the summary of the regulation as the point of contact for that regulation.

SUPPLEMENTARY INFORMATION: DHS provides this notice pursuant to the requirements of the Regulatory Flexibility Act (Pub. L. 96-354, September 19, 1980) and Executive Order 12866, “Regulatory Planning and Review” (September 30, 1993), which require the Department to publish a semiannual agenda of regulations. The regulatory agenda is a summary of all current and projected rulemakings, as well as actions completed since the publication of the last regulatory agenda for the Department. DHS' last semiannual regulatory agenda was published on December 20, 2010, at 75 FR 79788.

Beginning in the fall 2007, the Internet became the basic means for disseminating the Unified Agenda. The complete Unified Agenda is available online at www.reginfo.gov.

The Regulatory Flexibility Act (5 U.S.C. 602) requires federal agencies to publish their regulatory flexibility agenda in the Federal Register. A regulatory flexibility agenda shall contain, among other things, “a brief description of the subject area of any rule * * * which is likely to have a significant economic impact on a substantial number of small entities.” DHS' printed agenda entries include regulatory actions that are in the Department's regulatory flexibility agenda. Printing of these entries is limited to fields that contain information required by the agenda provisions of the Regulatory Flexibility Act. Additional information on these entries is available in the Unified Agenda published on the Internet.

The semiannual agenda of the Department conforms to the Unified Agenda format developed by the Regulatory Information Service Center.

Dated: February 23, 2011.
Christina E. McDonald,
Acting Associate General Counsel for Regulatory Affairs.

U.S. Citizenship and Immigration Services—Final Rule Stage
Sequence No. | Title | Regulation Identifier No.
211 | Registration Requirement for Petitioners Seeking To File H-1B Petitions on Behalf of Aliens Subject to Numerical Limitations | 1615-AB71
212 | Commonwealth of the Northern Mariana Islands Transitional Worker Classification | 1615-AB76

U.S. Citizenship and Immigration Services—Completed Actions
Sequence No. | Title | Regulation Identifier No.
213 | E-2 Nonimmigrant Status for Aliens in the Commonwealth of the Northern Mariana Islands With Long-Term Investor Status | 1615-AB75

U.S. Coast Guard—Prerule Stage
Sequence No. | Title | Regulation Identifier No.
214 | Claims Procedures Under the Oil Pollution Act of 1990 (USCG-2004-17697) | 1625-AA03

U.S. Coast Guard—Proposed Rule Stage
Sequence No. | Title | Regulation Identifier No.
215 | Numbering of Undocumented Barges | 1625-AA14
216 | Inspection of Towing Vessels | 1625-AB06
217 | Updates to Maritime Security | 1625-AB38

U.S. Coast Guard—Final Rule Stage
Sequence No. | Title | Regulation Identifier No.
218 | Standards for Living Organisms in Ships' Ballast Water Discharged in U.S. Waters | 1625-AA32

U.S. Coast Guard—Long-Term Actions
Sequence No. | Title | Regulation Identifier No.
219 | Commercial Fishing Industry Vessels | 1625-AA77

U.S. Coast Guard—Completed Actions
Sequence No. | Title | Regulation Identifier No.
220 | Passenger Weight and Inspected Vessel Stability Requirements | 1625-AB20

U.S. Customs and Border Protection—Final Rule Stage
Sequence No. | Title | Regulation Identifier No.
221 | Importer Security Filing and Additional Carrier Requirements | 1651-AA70

Transportation Security Administration—Final Rule Stage
Sequence No. | Title | Regulation Identifier No.
222 | Aircraft Repair Station Security | 1652-AA38

Transportation Security Administration—Long-Term Actions
Sequence No. | Title | Regulation Identifier No.
223 | Modification of the Aviation Security Infrastructure Fee (ASIF) (Market Share) | 1652-AA43

DEPARTMENT OF HOMELAND SECURITY (DHS)

U.S. Citizenship and Immigration Services (USCIS)

Final Rule Stage

211. Registration Requirement for Petitioners Seeking To File H-1B Petitions on Behalf of Aliens Subject to Numerical Limitations

Legal Authority: 8 U.S.C. 1184(g)

Abstract: The Department of Homeland Security is proposing to amend its regulations governing petitions filed on behalf of alien workers subject to annual numerical limitations. This rule proposes an electronic registration program for petitions subject to numerical limitations for the H-1B nonimmigrant classification. This action is necessary because the demand for H-1B specialty occupation workers by U.S. companies generally exceeds the numerical limitation. This rule is intended to allow USCIS to more efficiently manage the intake and lottery process for these H-1B petitions.

Timetable:

Action | Date | FR Cite
NPRM | 03/03/11 | 76 FR 11686
NPRM Comment Period End | 05/02/11 |
Final Rule | 04/00/12 |

Regulatory Flexibility Analysis Required: Yes.

Agency Contact: Susan Arroyo, Chief of Staff, Department of Homeland Security, U.S. Citizenship and Immigration Services, 20 Massachusetts Avenue, NW., Washington, DC 20529, Phone: 202 272-1094, Fax: 202 272-1543, E-mail: susan.arroyo@dhs.gov.

RIN: 1615-AB71

212. Commonwealth of the Northern Mariana Islands Transitional Worker Classification

Legal Authority: (Pub. L. 110-229)

Abstract: This final rule amends Department of Homeland Security regulations to create and establish procedures for a new, temporary, Commonwealth of the Northern Mariana Islands (CNMI)-only transitional worker classification (CW classification). This final rule implements the CNMI transitional worker provisions of the Consolidated Natural Resources Act of 2008 (CNRA), extending the immigration laws of the United States to the CNMI. The transitional worker program is intended to provide for an orderly transition from the CNMI permit system to the U.S. Federal immigration system under the Immigration and Nationality Act (INA). A CW transitional worker is an alien worker who is ineligible for another classification under the INA and who performs services or labor for an employer in the CNMI. The CNRA imposes a 5-year transition period before the INA requirements become fully applicable in the CNMI. The new CW classification will be in effect for the duration of that transition period, unless extended by the Secretary of Labor. The rule also establishes employment authorization incident to CW status.

Timetable:

Action | Date | FR Cite
Interim Final Rule | 10/27/09 | 74 FR 55094
Interim Final Rule Comment Period End | 11/27/09 |
Interim Final Rule Comment Period End Extended | 12/09/09 | 74 FR 64997
Interim Final Rule Comment Period End | 01/08/10 |
Final Action | 06/00/11 |

Regulatory Flexibility Analysis Required: Yes.

Agency Contact: Kevin J. Cummings, Chief of Business and Foreign Workers Division, Department of Homeland Security, U.S. Citizenship and Immigration Services, Office of Policy and Strategy, 20 Massachusetts Avenue, NW., Washington, DC 20529-2140, Phone: 202 272-1470, Fax: 202 272-1480, E-mail: kevin.cummings@dhs.gov.

RIN: 1615-AB76

DEPARTMENT OF HOMELAND SECURITY (DHS)

U.S. Citizenship and Immigration Services (USCIS)

Completed Actions

213. E-2 Nonimmigrant Status for Aliens in the Commonwealth of the Northern Mariana Islands With Long-Term Investor Status

Legal Authority: 8 U.S.C. 1101 to 1103; 8 U.S.C. 1182; 8 U.S.C. 1184; 8 U.S.C. 1186a

Abstract: This final rule amends Department of Homeland Security regulations governing E-2 nonimmigrant treaty investors to establish procedures for classifying long-term investors in the Commonwealth of the Northern Mariana Islands (CNMI) as E-2 nonimmigrants. This final rule implements the CNMI nonimmigrant investor visa provisions of the Consolidated Natural Resources Act of 2008, extending the immigration laws of the United States to the CNMI.

Timetable:

Action | Date | FR Cite
NPRM | 09/14/09 | 74 FR 46938
NPRM Comment Period End | 10/14/09 |
Final Action | 12/20/10 | 75 FR 79264
Final Action Effective | 01/19/11 |

Regulatory Flexibility Analysis Required: Yes.

Agency Contact: Kevin J. Cummings, Chief of Business and Foreign Workers Division, Department of Homeland Security, U.S. Citizenship and Immigration Services, Office of Policy and Strategy, 20 Massachusetts Avenue NW., Washington, DC 20529-2140, Phone: 202 272-1470, Fax: 202 272-1480, E-mail: kevin.cummings@dhs.gov.

RIN: 1615-AB75

DEPARTMENT OF HOMELAND SECURITY (DHS)

U.S. Coast Guard (USCG)

Prerule Stage

214. Claims Procedures Under the Oil Pollution Act of 1990 (USCG-2004-17697)

Legal Authority: 33 U.S.C. 2713 and 2714

Abstract: This rulemaking implements section 1013 (Claims Procedures) and section 1014 (Designation of Source and Advertisement) of the Oil Pollution Act of 1990 (OPA). An interim rule was published in 1992, and provides the basic requirements for the filing of claims for uncompensated removal costs or damages resulting from the discharge of oil, for the designation of the sources of the discharge, and for the advertisement of where claims are to be filed. The interim rule also includes the processing of natural resource damage (NRD) claims. The NRD claims, however, were not processed until September 25, 1997, when the Department of Justice issued an opinion that the Oil Spill Liability Trust Fund (OSLTF) is available, without further appropriation, to pay trustee NRD claims under the general claims provisions of OPA 90, 33 U.S.C. 2712(a)(4). This rulemaking supports the Coast Guard's broad role and responsibility of maritime stewardship.

Timetable:

Action | Date | FR Cite
Interim Final Rule | 08/12/92 | 57 FR 36314
Correction | 09/09/92 | 57 FR 41104
Interim Final Rule Comment Period End | 12/10/92 |
Notice of Inquiry | 08/00/11 |
Supplemental NPRM | 12/00/12 |

Regulatory Flexibility Analysis Required: Yes.

Agency Contact: Benjamin White, Project Manager, National Pollution Funds Center, Department of Homeland Security, U.S. Coast Guard, NPFC MS 7100, United States Coast Guard, 4200 Wilson Boulevard, Arlington, VA 20598-7100, Phone: 202 493-6863, E-mail: benjamin.h.white@uscg.mil.

RIN: 1625-AA03

DEPARTMENT OF HOMELAND SECURITY (DHS)

U.S. Coast Guard (USCG)

Proposed Rule Stage

215. Numbering of Undocumented Barges

Legal Authority: 46 U.S.C. 12301

Abstract: Title 46 U.S.C. 12301, as amended by the Abandoned Barge Act of 1992, requires that all undocumented barges of more than 100 gross tons operating on the navigable waters of the United States be numbered. This rulemaking would establish a numbering system for these barges. The numbering of undocumented barges will allow identification of owners of barges found abandoned and help prevent future marine pollution. This rulemaking supports the Coast Guard's broad role and responsibility of maritime stewardship.

Timetable:

Action | Date | FR Cite
Request for Comments | 10/18/94 | 59 FR 52646
Comment Period End | 01/17/95 |
ANPRM | 07/06/98 | 63 FR 36384
ANPRM Comment Period End | 11/03/98 |
NPRM | 01/11/01 | 66 FR 2385
NPRM Comment Period End | 04/11/01 |
NPRM Reopening of Comment Period | 08/12/04 | 69 FR 49844
NPRM Comment Period End | 11/10/04 |
Supplemental NPRM | 09/00/11 |

Regulatory Flexibility Analysis Required: Yes.

Agency Contact: Denise Harmon, Project Manager, Department of Homeland Security, U.S. Coast Guard, National Vessel Documentation Center, 792 T.J. Jackson Drive, Falling Waters, WV 25419, Phone: 304 271-2506.

RIN: 1625-AA14

216. Inspection of Towing Vessels

Legal Authority: 46 U.S.C. 3103; 46 U.S.C. 3301; 46 U.S.C. 3306; 46 U.S.C. 3308; 46 U.S.C. 3316; 46 U.S.C. 3703; 46 U.S.C. 8104; 46 U.S.C. 8904; DHS Delegation No 0170.1

Abstract: This rulemaking would implement a program of inspection for certification of towing vessels, which were previously uninspected. It would prescribe standards for safety management systems and third-party auditors and surveyors, along with standards for construction, operation, vessel systems, safety equipment, and recordkeeping.

Timetable:

Action | Date | FR Cite
NPRM | 07/00/11 |

Regulatory Flexibility Analysis Required: Yes.

Agency Contact: Michael Harmon, Program Manager, CG-5222, Department of Homeland Security, U.S. Coast Guard, 2100 2nd Street SW., STOP 7126, Washington, DC 20593-7126, Phone: 202 372-1427, E-mail: michael.j.harmon@uscg.mil.

RIN: 1625-AB06

217. Updates to Maritime Security

Legal Authority: 33 U.S.C. 1226; 33 U.S.C. 1231; 46 U.S.C. ch 701; 50 U.S.C. 191 and 192; EO 12656; 3 CFR 1988 Comp p 585; 33 CFR 1.05-1; 33 CFR 6.04-11; 33 CFR 6.14; 33 CFR 6.16; 33 CFR 6.19; DHS Delegation No 0170.1

Abstract: The Coast Guard proposes certain additions, changes, and amendments to 33 CFR, subchapter H. Subchapter H is comprised of parts 101 thru 106. Subchapter H implements the major provisions of the Maritime Transportation Security Act of 2002. This rulemaking is the first major revision to subchapter H. The proposed changes would further enhance the security of our Nation's ports, vessels, facilities, and Outer Continental Shelf facilities and incorporate requirements from legislation implemented since the original publication of these regulations in 2003. This rulemaking has international interest because of the close relationship between subchapter H and the International Ship and Port Security Code (ISPS).

Timetable:

Action | Date | FR Cite
NPRM | 07/00/11 |

Regulatory Flexibility Analysis Required: Yes.

Agency Contact: LCDR Loan O'Brien, Project Manager, Department of Homeland Security, U.S. Coast Guard, Commandant, (CG-5442), 2100 2nd Street SW., STOP 7581, Washington, DC 20593-7581, Phone: 877 687-2243, Fax: 202 372-1906, E-mail: loan.t.o'brien@uscg.mil.

RIN: 1625-AB38

DEPARTMENT OF HOMELAND SECURITY (DHS)

U.S. Coast Guard (USCG)

Final Rule Stage

218. Standards for Living Organisms in Ships' Ballast Water Discharged in U.S. Waters

Legal Authority: 16 U.S.C. 4711

Abstract: This rulemaking adds performance standards to 33 CFR part 151, subparts C and D, for discharges of ballast water. It supports the Coast Guard's broad roles and responsibilities of maritime safety and maritime stewardship. This project is economically significant.

Timetable:

Action | Date | FR Cite
ANPRM | 03/04/02 | 67 FR 9632
ANPRM Comment Period End | 06/03/02 |
NPRM | 08/28/09 | 74 FR 44632
Public Meeting | 09/14/09 | 74 FR 46964
Public Meeting | 09/22/09 | 74 FR 48190
Public Meeting | 09/28/09 | 74 FR 49355
Notice—Extension of Comment Period | 10/15/09 | 74 FR 52941
Public Meeting | 10/22/09 | 74 FR 54533
Public Meeting Correction | 10/26/09 | 74 FR 54944
NPRM Comment Period End | 12/04/09 | 74 FR 52941
Final Rule | 07/00/11 |

Regulatory Flexibility Analysis Required: Yes.

Agency Contact: Mr. John C Morris, Project Manager, Department of Homeland Security, U.S. Coast Guard, 2100 Second Street SW., STOP 7126, Washington, DC 20593-7126, Phone: 202 372-1433, E-mail: john.c.morris@uscg.mil.

RIN: 1625-AA32

DEPARTMENT OF HOMELAND SECURITY (DHS)

U.S. Coast Guard (USCG)

Long-Term Actions

219. Commercial Fishing Industry Vessels

Legal Authority: 46 U.S.C. 4502(a) to 4502(d); 46 U.S.C. 4505 and 4506; 46 U.S.C. 6104; 46 U.S.C. 10603; DHS Delegation No. 0170.1(92)

Abstract: This rulemaking would amend commercial fishing industry vessel requirements to enhance maritime safety. Commercial fishing remains one of the most dangerous industries in America. The Commercial Fishing Industry Vessel Safety Act of 1988 (“the Act,” codified in 46 U.S.C. chapter 45) gives the Coast Guard regulatory authority to improve the safety of vessels operating in that industry. Although significant reductions in industry deaths were recorded after the Coast Guard issued its initial rules under the Act in 1991, we believe more deaths and serious injury can be avoided through compliance with new regulations in the following areas: Vessel stability and watertight integrity, vessel maintenance and safety equipment including crew immersion suits, crew training and drills, and improved documentation of regulatory compliance.

Timetable:

Action | Date | FR Cite
ANPRM | 03/31/08 | 73 FR 16815
ANPRM Comment Period End | 12/15/08 |
NPRM | To Be Determined

Regulatory Flexibility Analysis Required: Yes.

Agency Contact: Jack Kemerer, Project Manager, CG-5433, Department of Homeland Security, U.S. Coast Guard, 2100 Second Street, SW., Washington, DC 20593, Phone: 202 372-1249, E-mail: jack.a.kemerer@uscg.mil.

RIN: 1625-AA77

DEPARTMENT OF HOMELAND SECURITY (DHS)

U.S. Coast Guard (USCG)

Completed Actions

220. Passenger Weight and Inspected Vessel Stability Requirements

Legal Authority: 33 U.S.C. 1321(j); 43 U.S.C. 1333; 46 U.S.C. 2103; 46 U.S.C. 2113; 46 U.S.C. 3205; 46 U.S.C. 3301; 46 U.S.C. 3306; 46 U.S.C. 3307; 46 U.S.C. 3703; 46 U.S.C. 5115; 46 U.S.C. 6101; 49 U.S.C. App 1804; EO 11735; EO 12234; DHS Delegation No 0170.1; Pub. L. 103-206, 107 Stat 2439

Abstract: The Coast Guard proposes developing a rule that addresses both the stability calculations and the environmental operating requirements for certain domestic passenger vessels. The proposed rule would address the outdated per-person weight averages that are currently used in stability calculations for certain domestic passenger vessels. In addition, the proposed rule would add environmental operating requirements for domestic passenger vessels that could be adversely affected by sudden inclement weather. This rulemaking would increase passenger safety by significantly reducing the risk of certain types of passenger vessels capsizing due to either passenger overloading or operating these vessels in hazardous weather conditions. This rulemaking would support the Coast Guard's broad role and responsibility of maritime safety.

Timetable:

Action | Date | FR Cite
NPRM | 08/20/08 | 73 FR 49244
NPRM Comment Period End | 11/18/08 |
NPRM Comment Period Reopened | 12/08/08 | 73 FR 74426
NPRM Comment Period End | 02/06/09 |
NPRM Comment Period Reopened | 02/18/09 | 74 FR 7576
NPRM Comment Period End | 03/20/09 |
Final Rule | 12/14/10 | 75 FR 78064

Regulatory Flexibility Analysis Required: Yes.

Agency Contact: William Peters, Program Manager, Office of Design and Engineering Standards, Systems Engineering Division (CG-5212), Department of Homeland Security, U.S. Coast Guard, 2100 2nd Street SW., STOP 7126, Washington, DC 20593-7126, Phone: 202 372-1371, E-mail: william.s.peters@uscg.mil.

RIN: 1625-AB20

DEPARTMENT OF HOMELAND SECURITY (DHS)

U.S. Customs and Border Protection (USCBP)

Final Rule Stage

221. Importer Security Filing and Additional Carrier Requirements

Legal Authority: Pub. L. 109-347, sec 203; 5 U.S.C. 301; 19 U.S.C. 66; 19 U.S.C. 1431; 19 U.S.C. 1433 to 1434; 19 U.S.C. 1624; 19 U.S.C. 2071 note; 46 U.S.C. 60105

Abstract: This interim final rule implements the provisions of section 203 of the Security and Accountability for Every Port Act of 2006. It amends CBP Regulations to require carriers and importers to provide to CBP, via a CBP-approved electronic data interchange system, information necessary to enable CBP to identify high-risk shipments to prevent smuggling and insure cargo safety and security. Under the rule, importers and carriers must submit specified information to CBP before the cargo is brought into the United States by vessel. This advance information will improve CBP's risk assessment and targeting capabilities, assist CBP in increasing the security of the global trading system, and facilitate the prompt release of legitimate cargo following its arrival in the United States.

Timetable:

Action | Date | FR Cite
NPRM | 01/02/08 | 73 FR 90
NPRM Comment Period End | 03/03/08
NPRM Comment Period Extended | 02/01/08 | 73 FR 6061
NPRM Comment Period End | 03/18/08
Interim Final Rule | 11/25/08 | 73 FR 71730
Interim Final Rule Effective | 01/26/09 |
Interim Final Rule Comment Period End | 06/01/09
Correction | 07/14/09 | 74 FR 33920
Correction | 12/24/09 | 74 FR 68376
Final Action | 08/00/11

Regulatory Flexibility Analysis Required: Yes.

Agency Contact: Richard DiNucci, Department of Homeland Security, U.S. Customs and Border Protection, Office of Field Operations, 1300 Pennsylvania Avenue NW., Washington, DC 20229, Phone: 202 344-2513, E-mail: richard.dinucci@dhs.gov.

RIN: 1651-AA70

DEPARTMENT OF HOMELAND SECURITY (DHS)

Transportation Security Administration (TSA)

Final Rule Stage

222. Aircraft Repair Station Security

Legal Authority: 49 U.S.C. 114; 49 U.S.C. 44924

Abstract: The Transportation Security Administration (TSA) proposed to add a new regulation to improve the security of domestic and foreign aircraft repair stations, as required by the section 611 of Vision 100—Century of Aviation Reauthorization Act and section 1616 of the 9/11 Commission Act of 2007. The regulation proposed general requirements for security programs to be adopted and implemented by repair stations certificated by the Federal Aviation Administration (FAA). A notice of proposed rulemaking (NPRM) was published in the Federal Register on November 18, 2009, requesting public comments to be submitted by January 19, 2010. The comment period was extended to February 19, 2010, on request of the stakeholders to allow the aviation industry and other interested entities and individuals additional time to complete their comments.

TSA has coordinated its efforts with the FAA throughout the rulemaking process to ensure that the final rule does not interfere with FAA's ability or authority to regulate part 145 repair station safety matters.

Timetable:

Action | Date | FR Cite
Notice—Public Meeting; Request for Comments | 02/24/04 | 69 FR 8357
Report to Congress | 08/24/04
NPRM | 11/18/09 | 74 FR 59873
NPRM Comment Period End | 01/19/10
NPRM Comment Period Extended | 12/29/09 | 74 FR 68774
NPRM Extended Comment Period End | 02/19/10
Final Rule | 10/00/11

Regulatory Flexibility Analysis Required: Yes.

Agency Contact: Celio Young, Program Manager, Repair Stations, Department of Homeland Security, Transportation Security Administration, Office of Transportation Sector Network Management, General Aviation Division, TSA-28, HQ, E5, 601 South 12th Street, Arlington, VA 20598-6028, Phone: 571 227-3580, Fax: 571 227-1362, E-mail: celio.young@dhs.gov.

Thomas Philson, Deputy Director, Regulatory and Economic Analysis, Department of Homeland Security, Transportation Security Administration, Office of Transportation Sector Network Management, TSA-28, HQ, E10-411N, 601 South 12th Street, Arlington, VA 20598-6028, Phone: 571 227-3236, Fax: 571 227-1362, E-mail: thomas.philson@dhs.gov.

Linda L. Kent, Assistant Chief Counsel, Regulations and Security Standards Division, Department of Homeland Security, Transportation Security Administration, Office of the Chief Counsel, TSA-2, HQ, E12-126S, 601 South 12th Street, Arlington, VA 20598-6002, Phone: 571 227-2675, Fax: 571 227-1381, E-mail: linda.kent@dhs.gov.

RIN: 1652-AA38

DEPARTMENT OF HOMELAND SECURITY (DHS)

Transportation Security Administration (TSA)

Long-Term Actions

223. Modification of the Aviation Security Infrastructure Fee (ASIF) (Market Share)

Legal Authority: 49 U.S.C. 44901; 49 U.S.C. 44940

Abstract: The Transportation Security Administration will propose a method for apportioning the Aviation Security Infrastructure Fee (ASIF) among air carriers. The ASIF is a fee imposed on air carriers and foreign air carriers to help pay the Government's costs of providing civil aviation security services.

Starting in fiscal year 2005, the Aviation and Transportation Security Act (ATSA) (Pub. L. 107-71; Nov. 19, 2001), codified at 49 U.S.C. 44940, authorizes TSA to change the methodology for imposing the ASIF on air carriers and foreign air carriers from a system based on their 2000 screening costs to a system based on market share or other appropriate measures.

On November 5, 2003, the Transportation Security Administration (TSA) published a notice requesting comment on possible changes in order to allow for open industry and public input. TSA sought comments on issues regarding how to impose the ASIF, and whether, when, and how often the ASIF should be adjusted. The comment period was extended on the notice for an additional 30 days, until February 5, 2004. TSA is developing a market share methodology and intends to seek public comments through issuance of a notice of proposed rulemaking.

Timetable:

Action | Date | FR Cite
Notice; Requesting Comment-Imposition of the Aviation Security Infrastructure Fee (ASIF) | 11/05/03 | 68 FR 62613
Notice—Imposition of ASIF; Comment Period End | 01/05/04
Notice—Imposition of ASIF; Comment Period Extended | 12/31/03 | 68 FR 75611
Notice—Imposition of ASIF; Extended Comment Period End | 02/05/04
Next Action Undetermined

Regulatory Flexibility Analysis Required: Yes.

Agency Contact: Michael Gambone, Deputy Director, Office of Revenue, Department of Homeland Security, Transportation Security Administration, Office of Finance and Administration, TSA-14, HQ, W12-319, 601 South 12th Street, Arlington, VA 20598-6014, Phone: 571 227-1081, Fax: 571 227-2904, E-mail: michael.gambone@dhs.gov.

Thomas Philson, Deputy Director, Regulatory and Economic Analysis, Department of Homeland Security, Transportation Security Administration, Office of Transportation Sector Network Management, TSA-28, HQ, E10-411N, 601 South 12th Street, Arlington, VA 20598-6028, Phone: 571 227-3236, Fax: 571 227-1362, E-mail: thomas.philson@dhs.gov.

Linda L. Kent, Assistant Chief Counsel, Regulations and Security Standards Division, Department of Homeland Security, Transportation Security Administration, Office of the Chief Counsel, TSA-2, HQ, E12-126S, 601 South 12th Street, Arlington, VA 20598-6002, Phone: 571 227-2675, Fax: 571 227-1381, E-mail: linda.kent@dhs.gov.

RIN: 1652-AA43

[FR Doc. 2011-15490 Filed 7-6-11; 8:45 am]

BILLING CODE 9110-9B-P